DEPARTMENT OF THE TREASURY

Agency Information Collection Activities; Submission for OMB Review; Comment Request; Persons Providing Remittance Forwarding Services to Cuba

AGENCY: Departmental Offices, U.S. Department of the Treasury.

ACTION: Notice.

SUMMARY: The Department of the Treasury, as part of its continuing effort to reduce paperwork and respondent burden, invites the general public and other Federal agencies to comment on proposed or continuing information collections, as required by the Paperwork Reduction Act of 1995. Currently, the Office of Foreign Assets Control (OFAC) within the Department of the Treasury is soliciting comments concerning OFAC's information collection requirements for persons using remittance forwarding services related to Cuba, which are contained within the Cuban Assets Control Regulations.

DATES: Comments should be received on or before January 30, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Title: Persons Providing Remittance Forwarding Services to Cuba.

OMB Number: 1505-0167.

Type of Review: Revision of a currently approved collection.

Description: Requirements to retain records are codified in § 515.572(b) of the Cuban Assets Control Regulations, 31 CFR part 515 (the “Regulations”). Pursuant to § 515.572(b)(1), persons subject to U.S. jurisdiction who provide authorized remittance forwarding services related to Cuba are required to maintain for at least five years from the date of the transaction a certification from each customer indicating the section of Regulations or, if relevant, the number of the specific license, that authorizes the person to send the remittance to Cuba. The recordkeeping burden associated with § 515.572(b)(2) is addressed in 1505-0164.

The records covered by this information collection must be provided on request to the U.S. Department of the Treasury and will be used to monitor compliance with regulations governing transactions related to authorized remittances to or from Cuba using remittance forwarding service providers who are persons subject to U.S. jurisdiction.

Forms: Section 515.572(b)(1) does not specify any particular form of recordkeeping.

Affected Public: Individuals, households, businesses, non-governmental organizations and banking institutions. The likely respondents and record-keepers affected by this collection of information are persons using and providing U.S. remittance forwarding services.

Estimated Number of Unique Respondents: Based on newly acquired data and OFAC's revised methodology, the estimated number of annual respondents is 1,500,000.

Estimated Number of Records per Respondent: Based on newly acquired data and OFAC's revised methodology, the estimated number of records is approximately 1.2 records per respondent per year. (Some respondents may produce far more records; 1.2 records per respondent is an average.)

Estimated Total Number of Annual Records: Based on additional data and OFAC's revised methodology, as well as the effects of the Coronavirus Disease 2019 (COVID-19) pandemic and regulatory changes affecting remittances, the estimated total number of annual records is approximately 1,800,000.

Estimated Time per Record: OFAC assesses that there is an average time estimate of 1 minute per record.

Estimated Total Annual Burden Hours: The estimated total annual reporting burden is approximately 1,800,000 minutes or approximately 30,000 hours.

Authority: 44 U.S.C. 3501 et seq.

Melody Braswell,
Treasury PRA Clearance Officer.

[FR Doc. 2022-28350 Filed 12-28-22; 8:45 am]

BILLING CODE 4810-AL-P